DEPARTMENT OF HEALTH AND HUMAN SERVICES

Centers for Disease Control and Prevention

Meeting of the Task Force on Community Preventive Services

AGENCY: Centers for Disease Control and Prevention (CDC), Department of Health and Human Services (HHS).

ACTION: Notice of meeting.

SUMMARY: The Centers for Disease Control and Prevention (CDC) announces the next meeting of the Task Force on Community Preventive Services (Task Force). The Task Force—an independent, nonfederal body of nationally known leaders in public health practice, policy, and research who are appointed by the CDC Director—was convened in 1996 by the Department of Health and Human Services (HHS) to assess the effectiveness of community, environmental, population, and healthcare system interventions in public health and health promotion. During this meeting the Task Force will consider the findings of systematic reviews and issue recommendations and findings to help inform decision making about policy, practice, and research in a wide range of U.S. settings. The Task Force's recommendations, along with the systematic reviews of the scientific evidence on which they are based, are compiled in the Guide to Community Preventive Services (Community Guide).

DATES: The meeting will be held on Wednesday, June 15, 2011 from 8:30 a.m. to 5:30 p.m., EST and Thursday, June 16, 2011 from 8:30 a.m. to 1 p.m. EST.

ADDRESSES: The Task Force Meeting will be held via conference call and Live Meeting. Information regarding logistics will be available on the Community Guide Web site (http://www.thecommunityguide.org), Wednesday, June 1, 2011.

FOR FURTHER INFORMATION CONTACT: Sara Dodge, Division of Community Preventive Services, Epidemiology and Analysis Program Office, Office of Surveillance, Epidemiology, and Laboratory Services, Centers for Disease Control and Prevention, 1600 Clifton Road, Atlanta, Georgia 30333, phone: (404) 498-0554, e-mail: communityguide@cdc.gov.

SUPPLEMENTARY INFORMATION: Purpose: The purpose of the meeting is for the Task Force to consider the findings of reviews and issue recommendations and findings to help inform decision making about policy, practice, and research in a wide range of U.S. settings.

Matters to be discussed: Effectiveness of: Mass media campaigns to prevent skin cancer; school dismissal policy to reduce influenza transmission; extended school hours to promote health equity; and out-of-school programs to promote health equity. New reviews on cardiovascular disease and tobacco will also be discussed.

Meeting Accessibility: This meeting is open to the public, limited only by teleconference space availability.

Dated: May 18, 2011.
Tanja Popovic,
Deputy Associate Director for Science, Centers for Disease Control and Prevention.

[FR Doc. 2011-13043 Filed 5-25-11; 8:45 am]

BILLING CODE 4163-18-P